DEPARTMENT OF THE INTERIOR

Fish and Wildlife Service

50 CFR Part 17

RIN 1018-AG09

Endangered and Threatened Wildlife and Plants; Reopening of Comment Period on the Proposed Endangered Status for Three Plants From the Mariana Islands and Guam

AGENCY: Fish and Wildlife Service, Interior.

ACTION: Proposed rule; reopening of comment period and notice of public hearing.

SUMMARY: The U.S. Fish and Wildlife Service (Service) gives notice of a public hearing on the proposed endangered status for three plants, Nesogenes rotensis, Osmoxylon marianense, and Tabernaemontana rotensis from the Mariana Islands and Guam. In addition, the comment period which originally closed on July 17, 2000, will be reopened. The new comment period and hearing will allow all interested parties to submit oral or written comments on the proposal. We are seeking comments or suggestions from the public, other concerned governmental agencies, the scientific community, industry, or any other interested parties concerning the proposed rule. Comments already submitted on the proposed rule need not be resubmitted as they will be fully considered in the final determination.

DATES: The comment period for this proposal now closes on November 29, 2000. Any comments received by the closing date will be considered in the final decision on this proposal. The public hearing will be held from 6 p.m. to 8 p.m. on Thursday, November 16, 2000, on the island of Rota (Luta), Commonwealth of the Northern Mariana Islands. Prior to the public hearing, the Service will be available from 5 to 6 p.m. to provide information and to answer questions.

ADDRESSES: The public hearing will be held at the Rota Resort and Country Club, Rota, CNMI. Comments and materials concerning this proposal should be sent to the Field Supervisor, U.S. Fish and Wildlife Service, Pacific Islands Ecoregion Office, 300 Ala Moana Boulevard, room 3-122, P.O. Box 50088, Honolulu, Hawaii 96850. Comments and materials received will be available for public inspection, by appointment, during normal business hours at the above address.

FOR FURTHER INFORMATION CONTACT: Paul Henson, at the above address, phone 808-541-3441, facsimile 808-541-3470.

SUPPLEMENTARY INFORMATION:

Background

On June 1, 2000, the Service published a proposed rule to list three plants from the Mariana Islands and Guam as endangered species, pursuant to the Endangered Species Act of 1973, as amended (Act) in the Federal Register (65 FR 35025). The original comment period closed on July 17, 2000. The comment period now closes on November 29, 2000. Written comments should be submitted to the Service (see ADDRESSES section).

Nesogenes rotensis and Osmoxylon marianense are found only on the island of Rota, Commonwealth of the Northern Mariana Islands (CNMI). Tabernaemontana rotensis occurs on both Rota and the United States Territory of Guam. The three plant species and their habitats have been affected or are now threatened by fire, development/road work, typhoons/storms, nonnative plants, and collecting/trampling by humans. This proposal, if made final, would implement the Federal protection and recovery provisions of the Act.

Section 4(b)(5)(E) of the Act (16 U.S.C. 1531 et seq.), requires that a public hearing be held if it is requested within 45 days of the publication of a proposed rule. In response to a request from a government agency of the CNMI, the Service will hold a public hearing on the date and at the address described in the DATES and ADDRESSES sections above.

Anyone wishing to make an oral statement for the record is encouraged to provide a written copy of their statement and present it to the Service at the hearing. In the event there is a large attendance, the time allotted for oral statements may be limited. Oral and written statements receive equal consideration. There are no limits to the length of written comments presented at the hearing or mailed to the Service. Legal notices announcing the date, time, and location of the hearing will be published in newspapers concurrently with the Federal Register notice.

Comments from the public regarding the accuracy of this proposed rule are sought, especially regarding:

(1) Biological, commercial trade, or other relevant data concerning any threat (or lack thereof) to these species;

(2) The location of any additional populations of these species and reasons why any habitat should or should not be designated as critical habitat;

(3) Additional information on the range, distribution, and population size of these species; and

(4) Current or planned activities in the subject area and their possible impacts on these species.

Reopening of the comment period will enable the Service to respond to the request for a public hearing on the proposed action. The comment period on this proposal now closes on November 29, 2000. Written comments should be submitted to the Service office listed in the ADDRESSES section.

Author:

The primary authors of this notice Benton Pang and Christa Russell (see ADDRESSES section).

Authority: The authority for this action is the Endangered Species Act of 1973 (16 U.S.C. 1531 et seq.).

Dated: September 22, 2000.
Rowan W. Gould,
Acting Regional Director, Region 1, Fish and Wildlife Service.

[FR Doc. 00-25907 Filed 10-27-00; 8:45 am]

BILLING CODE 4310-55-P